DEPARTMENT OF THE INTERIOR

Bureau of Land Management

[14XLLAK941000-L14400000-ET0000; AA-45553]

Public Land Order No. 7845; Extension of Public Land Order No. 7177; Alaska

AGENCY: Bureau of Land Management, Interior.

ACTION: Public Land Order.

SUMMARY: This order extends the duration of the withdrawal created by Public Land Order No. 7177 for an additional 20-year period, which would otherwise expire on December 20, 2015. The extension is necessary for continued protection of the investment of Federal funds in the United States Forest Service Glacier Loop Administrative Site near Juneau, Alaska.

DATES: Effective Date: December 21, 2015.

FOR FURTHER INFORMATION CONTACT: Renee Fencl, Bureau of Land Management Alaska State Office, 222 West 7th Avenue, No. 13, Anchorage, Alaska 99513-7504, 907-271-5067 or rfencl@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The purpose for which the withdrawal was first made requires this extension to continue protection of the investment of Federal funds in the U.S. Forest Service Glacier Loop Administrative Site.

Order

By virtue of the authority vested in the Secretary of the Interior by Section 204 of the Federal Land Policy and Management Act of 1976, 43 U.S.C. 1714, it is ordered as follows:

Public Land Order No. 7177 (60 FR 66150 (1995)), which withdrew 22.51 acres of public land near Juneau, Alaska from settlement, sale, location, or entry under the general land laws, including the United States mining laws, to protect the U.S. Forest Service Glacier Loop Administrative Site, is hereby extended for an additional 20-year period. This withdrawal will expire on December 20, 2035, unless, as a result of a review conducted prior to the expiration date pursuant to Section 204(f) of the Federal Land Policy and Management Act of 1976, 43 U.S.C. 1714(f), the Secretary determines that the withdrawal shall be further extended.

Dated: December 12, 2015.
Janice M. Schneider,
Assistant Secretary—Land and Minerals Management.

[FR Doc. 2015-32861 Filed 12-29-15; 8:45 am]

BILLING CODE 3411-15-P